DEPARTMENT OF COMMERCE

National Oceanic and Atmospheric Administration

50 CFR Part 622

[I.D. 053001E]

RIN 0648-A023

Fisheries of the Caribbean, Gulf of Mexico, and South Atlantic; Golden Crab Fishery off the Southern Atlantic States; Amendment 3

AGENCY: National Marine Fisheries Service (NMFS), National Oceanic and Atmospheric Administration (NOAA), Commerce.

ACTION: Notice of availability of Amendment 3 to the FMP for the golden crab fishery off the southern Atlantic states; request for comments.

SUMMARY: NMFS announces that the South Atlantic Fishery Management Council (Council) has submitted Amendment 3 to the Fishery Management Plan for the Golden Crab Fishery of the South Atlantic Region (FMP) for NMFS' review, approval, and implementation. Amendment 3 would make a number of modifications in the FMP’s management program including extending the time period for the allowed use of cable for mainlines attached to golden crab traps, modifying vessel permitting requirements, changing the restrictions regarding which vessels are allowed to fish in each of the management zones, liberalizing the allowed increase in permitted vessel size, creating a small-vessel subzone in the southern zone, and specifying maximum sustainable yield (MSY) and stock status determination criteria for golden crab under the FMP. The intended effect of Amendment 3 and its implementing rule is to protect the golden crab resource while allowing the development of the fishery that is dependent on that resource. Specifically, Amendment 3 is designed to reduce gear conflict in the southern zone of the fishery, increase participation in the fishery by easing permit renewal requirements, and expand fishing activities in the northern zone where no fishing currently occurs. Expected benefits include better information on the long-term biological productivity of the resource and an increase in the supply of golden crab in the market place with attendant economic benefits to the fishery.

DATES: Written comments must be received on or before August 13, 2001.

ADDRESSES: Written comments on Amendment 3 must be sent to Peter Eldridge, Southeast Regional Office, NMFS, 9721 Executive Center Drive N., St. Petersburg, FL 33702. Comments may also be sent to Peter Eldridge via fax to 727-570-5583. Comments will not be accepted if submitted via e-mail or the Internet.

Requests for Amendment 3, which includes an Environmental Assessment, a Regulatory Impact Review, and a Social Impact Assessment/Fishery Impact Statement, should be sent to the South Atlantic Fishery Management Council, One Southpark Circle, Suite 306, Charleston, SC 29407-4699; telephone: 843-571-4366; fax: 843-769-4520; e-mail: safmc@noaa.gov.

FOR FURTHER INFORMATION CONTACT: Peter Eldridge, NMFS; telephone: 727-570-5305; fax: 727-570-5583; e-mail: Peter.Eldridge@noaa.gov.

SUPPLEMENTARY INFORMATION: The Magnuson-Stevens Fishery Conservation and Management Act (Magnuson-Stevens Act) requires each Regional Fishery Management Council to submit any fishery management plan (FMP) or FMP amendment to NMFS for review and approval, disapproval, or partial approval. NMFS implements approved FMP or amendment measures by issuing a final rule. The Magnuson-Stevens Act also requires that NMFS, upon receiving an FMP or amendment, immediately publish a document in the Federal Register stating that the FMP or amendment is available for public review and comment.

The golden crab fishery off the southern Atlantic states is managed under the FMP. This FMP was prepared by the Council and approved and implemented by NMFS.

Amendment 3 would (1) extend through December 31, 2002, the allowed use of cable for a mainline attached to golden crab traps; (2) clarify the size of the required escape panel or door on a golden crab trap; (3) remove the catch requirement for renewing a commercial vessel permit for golden crab; (4) allow the issuance of a commercial vessel permit for golden crab for the southern zone for a vessel that held a valid permit for the southern zone in October 2000 but did not meet the subsequent 5,000-lb (2,268-kg) catch requirement for renewal; (5) allow a vessel greater than 65 feet (19.8 m) in length with a permit to fish in the southern zone to fish also in the northern zone; (6) allow two new commercial vessel permits to be issued for the northern zone; (7) provide that a commercial vessel permit will not be renewed if the NMFS Regional Administrator does not receive an application for renewal by June 30 each year; (8) liberalize the allowed increase in the size of a permitted vessel; (9) create a small-vessel sub-zone within the southern zone in which only permitted vessels 65 feet (19.8 m) or less in length may fish for golden crab; such vessels would be prohibited from fishing for golden crab in the remainder of the southern zone; and (10) add to the FMP’s list of management measures that may be modified via its framework procedure for regulatory adjustments measures related to the southern zone’s sub-zone.

In addition to the measures described above, Amendment 3 would establish the following: (MSY) for golden crab in the management area; a maximum fishing mortality threshold (MFMT), which is the fishing mortality rate that, if exceeded, constitutes overfishing; and a minimum stock size threshold (MSST), which is the stock size below which golden crab are considered overfished. The proposed specific parameters are as follows:

MSY would be an annual yield between 4 and 12 million lb (1,814 and 5,443 metric tons).

MFMT would be a fishing mortality rate that is in excess of the fishing mortality rate that produces MSY.

MSST would be either a ratio of current biomass to biomass at MSY (BMSY) or one minus the natural mortality rate (1 - M) times BMSY where 1 - M should never be less than 0.5.

In accordance with the Magnuson-Stevens Act, NMFS is evaluating the proposed rule to determine whether it is consistent with Amendment 3, the FMP, the Magnuson-Stevens Act, and other applicable law. If that determination is affirmative, NMFS will publish the proposed rule in the Federal Register for public review and comment.

Comments received by August 13, 2001, whether specifically directed to Amendment 3 or to the proposed rule, will be considered by NMFS in its decision to approve, disapprove, or partially approve Amendment 3. All comments received by NMFS on Amendment 3 or the proposed rule during their respective comment periods will be addressed in the final rule.

Authority: 16 U.S.C. 1801 et seq.

Dated: June 5, 2001.
William T. Hogarth,
Acting Assistant Administrator for Fisheries, National Marine Fisheries Service.

[FR Doc. 01-14772 Filed 6-11-01; 8:45 am]

BILLING CODE 3510-22-S